ENVIRONMENTAL PROTECTION AGENCY

[EPA-HQ-OPPT-2015-0435; FRL-10678-01-OCSPP]

Agency Information Collection Activities; Proposed Renewal and Request for Comment; Notification of Chemical Exports Under TSCA Section 12(b)

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Notification of Chemical Exports—TSCA Section 12(b),” identified by EPA ICR No. 0795.17 and OMB Control No. 2070-0030. This ICR represents the renewal of an approved ICR that is currently scheduled to expire on May 31, 2024. Before submitting the ICR to OMB for review and approval under the PRA, EPA is soliciting comments on specific aspects of the information collection that is summarized in this document. The ICR and accompanying material are available in the docket for public review and comment.

DATES: Comments must be received on or before November 21, 2023.

ADDRESSES: Submit your comments, identified by docket identification (ID) number EPA-HQ-OPPT-2015-0435, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Katherine Sleasman, Mission Support Division (7602M), Office of Program Support, Office of Chemical Safety and Pollution Prevention, Environmental Protection Agency, 1200 Pennsylvania Ave. NW, Washington, DC 20460-0001; telephone number: (202) 566-1204; email address: sleasman.katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Notification of Chemical Exports—TSCA Section 12(b).

EPA ICR No.: 0795.17.

OMB Control No.: 2070-0030.

ICR status: This ICR is currently approved through May 31, 2024. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR covers the information collection activities associated with the reporting and recordkeeping requirements under section 12(b) of the Toxic Substances Control Act (TSCA) which requires any person who exports or intends to export to a foreign country a chemical substance or mixture for which submission of information is required under TSCA sections 4 or 5(b), or for which a rule, action or order has been proposed or promulgated under TSCA sections 5, 6, or 7, shall notify EPA of such export or intent to export. The Agency must, in turn, notify the government of the importing country of the notice and of EPA's regulatory action with respect to the substance.

In implementing TSCA section 12(b), EPA described the notification requirements applicable to persons exporting chemicals, including frequency of notification, covered chemicals, and content of the notification. See 40 CFR part 707, subpart D. In summary, the export notice must include five easily ascertainable items: (1) The name and address of the exporter; (2) The name of the chemical; (3) The country of import, (4) The date of export or intended export; and (5) The section of TSCA under which EPA has taken action (i.e., TSCA sections 4, 5, 6 or 7). There are currently over 1,000 substances or categories of substances that have been regulated or proposed to be regulated under the applicable sections of TSCA. For additional information about export requirements under TSCA, visit our website at https://www.epa.gov/tsca-import-export-requirements.

Burden statement: The annual public reporting and recordkeeping burden for this collection of information is estimated to average 0.62 hours per response. Burden is defined in 5 CFR 1320.3(b).

The ICR, which is available in the docket along with other related materials, provides a detailed explanation of the collection activities and the burden estimate that is only briefly summarized here:

Respondents/affected entities: Respondents to this collection are exporters of chemical substances regulated under TSCA, which are mostly chemical companies classified under the North American Industrial Classification System (NAICS) codes 325 and 324.

Respondent's obligation to respond: Responses are mandatory under TSCA section 12(b), as implemented by 40 CFR part 707, subpart D.

Forms: EPA Form 9600-031.

Frequency of response: On occasion.

Total estimated number of potential respondents: 266.

Total estimated average number of responses for each respondent: 18.

Total estimated annual number of responses: 4,788.

Total estimated annual burden: 2,968 hours.

Total estimated annual costs: $184,690. This includes an estimated burden cost of $184,690 and an estimated cost of $0 for capital investment or maintenance and operational costs.

III. Are there changes in the estimates from the last approval?

This ICR renewal's estimate reflects a slight increase of 34 hours from that which is currently approved (i.e., 2,934 to 2,968 hours). This is the net result from a decrease in burden caused by assuming 100 percent electronic submissions despite a small increase in burden due to a larger number of respondents compared to the previous ICR.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: September 18, 2023.
Michal Freedhoff,
Assistant Administrator, Office of Chemical Safety and Pollution Prevention.

[FR Doc. 2023-20548 Filed 9-21-23; 8:45 am]

BILLING CODE 6560-50-P